FEDERAL COMMUNICATIONS COMMISSION

Notice of Public Information Collection(s) Being Submitted to OMB for Review and Approval

October 31, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 13, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0548.

Title: Section 76.1708, Principal Headend; Sections 76.1709 and 76.1620, Availability of Signals; Section 76.56, Signal Carriage Obligations; and Section 76.1614, Identification of Must-Carry Signals.

Form Number: N/A.

Type of Review: Revision of a currently approved collection.

Respondents: Business or other for-profit entities.

Number of Respondents: 10,400.

Estimated Time per Response: 30 mins. to 1 hr.

Frequency of Response: Recordkeeping; On occasion reporting requirements; Third party disclosure.

Total Annual Burden: 62,400 hrs.

Total Annual Costs: None.

Needs and Uses: FCC rules under 47 CFR sections 76.56, 76.1614, 76.1620, 76.1708, and 76.1709, require, among other things, that to fulfill the provisions of the signal carriage and must-carry statutes, each cable television system operator must maintain a public inspection file containing a list of broadcast television stations carried by its system and the designation and location of the principal headend; provide a list of must-carry signals within 30 days of receipt of a written request; and notify subscribers who were authorized to install additional receiver connections themselves of the broadcast stations that cannot be received without a converter box and how to obtain the additional connections, charges to buy or lease the converter box, and the installation instructions.

FCC and local public officials use these records when they examine the local cable television system's compliance with applicable rules and regulations.

OMB Control Number: 3060-0419.

Title: Section 76.94, Notification; Section 76.95, Exceptions; Section 76.105, Notifications; Section 76.106, Exceptions; Section 76.107, Exclusivity contracts; Section 76.109, Requirements for invocation of protection; and Section 76.1609, Non-duplication and syndicated exclusivity.

Form Number: N/A.

Type of Review: Revision of a currently approved collection.

Respondents: Businesses or other for-profit entities.

Number of Respondents: 5,555.

Estimated Time per Response: 30 mins. to 2 hrs.

Frequency of Response: One time requirement; Third party disclosure.

Total Annual Burden: 182,552 hrs.

Total Annual Costs: None.

Needs and Uses: FCC Rules under 47 CFR sections 76.94, 76.95, 76.105, 76.106, 76.107, 76.109, and 76.1609, require, among other things, that television stations, broadcast television stations, and program distributors notify cable system operators of non-duplication protection and exclusivity rights being sought within prescribed limitations and terms of contractual agreements. The various notification and disclosure requirements protect broadcasters that purchase the exclusive rights to transmit syndicated programming in their recognized markets.

Federal Communications Commission.
Magalie Roman Salas,
Secretary.

[FR Doc. 01-28267 Filed 11-9-01; 8:45 am]

BILLING CODE 6712-01-P